DEPARTMENT OF THE INTERIOR

Office of the Secretary

Proposed Renewal of Information Collection: 1090-0007 [formerly 1505-0191], American Customer Satisfaction Index (ACSI) Government Customer Satisfaction Survey

AGENCY: National Business Center, Federal Consulting Group, Interior.

ACTION: Notice and request for comments.

SUMMARY: In compliance with section 3506(c)(2)(A) of the Paperwork Reduction Act of 1995, the National Business Center, Department of the Interior announces that it has submitted a request for proposed extension of an information collection to the Office of Management and Budget (OMB), and requests public comments on this submission. The information collection request describes the nature of the information collection and the expected burden and cost.

DATES: OMB has up to 60 days to approve or disapprove the information collection request, but may respond after 30 days; therefore, public comments should be submitted to OMB by September 17, 2009, in order to be assured of consideration.

ADDRESSES: Send your written comments by facsimile to (202) 395-5806 or e-mail (OIRA_DOCKET@omb.eop.gov) to the Office of Information and Regulatory Affairs, Office of Management and Budget, Attention: 1090-0007 Desk Officer. Also, please send a copy of your comments to Federal Consulting Group, Attention: Ron Oberbillig, 1849 C St, NW., MS 314, Washington, DC 20240-0001, or by facsimile to (202) 513-7686, or via e-mail to Ron_Oberbillig@nbc.gov. Individuals providing comments should reference Customer Satisfaction Surveys.

FOR FURTHER INFORMATION CONTACT: To request additional information or copies of the form(s) and instructions, please write to the Federal Consulting Group, Attention: Ron Oberbillig, 1849 C St, NW., MS 314, Washington, DC 20240-0001, or call him on (202) 513-7677, or send an e-mail to Ron_Oberbillig@nbc.gov.

SUPPLEMENTARY INFORMATION: The Office of Management and Budget (OMB) regulations at 5 CFR 1320, which implement provisions of the Paperwork Reduction Act of 1995 (Pub. L. 104-13), require that interested members of the public and affected agencies have an opportunity to comment on information collection and recordkeeping activities [see 5 CFR 1320.8(d)]. The Office of the Secretary, National Business Center has submitted a request to OMB to renew its approval of this collection of information for three years.

An agency may not conduct or sponsor, and a person is not required to respond to, a collection of information unless it is operating under a currently valid OMB control number. The OMB control number for this collection is 1090-0007. The control number will be displayed on the surveys used. For expeditious administration of the surveys, the expiration date will not be displayed on the individual instruments. Response is not required to obtain a benefit.

Title: “Customer Satisfaction Surveys”.

OMB Control Number: 1090-0007 (formerly 1050-0191).

Summary: The proposed renewal of this information collection activity provides a means to consistently assess, benchmark and improve customer satisfaction with Federal government agency programs and/or services within the Executive Branch. The Federal Consulting Group of the Department of the Interior serves as the executive agent for this methodology and has partnered with the CFI Group and the University of Michigan to offer the ACSI to Federal government agencies.

The CFI Group, a leader in customer satisfaction and customer experience management, offers a comprehensive model that quantifies the effects of quality improvements on citizen satisfaction. The CFI Group has developed the methodology and licenses it to the National Quality Research Center at the University of Michigan, which produces the American Customer Satisfaction Index (ACSI). This national indicator is developed for different economic sectors each quarter, which are then published in The Wall Street Journal. The ACSI was introduced in 1994 by Professor Claes Fornell under the auspices of the University of Michigan, the American Society for Quality (ASQ), and the CFI Group. It monitors and benchmarks customer satisfaction across more than 200 companies and many U.S. Federal agencies.

The ACSI is the only cross-agency methodology for obtaining comparable measures of customer satisfaction with Federal government programs and/or services. Along with other economic objectives—such as employment and growth—the quality of output (goods and services) is a part of measuring living standards. The ACSI's ultimate purpose is to help improve the quality of goods and services available to American citizens.

ACSI surveys conducted by the Federal Consulting Group are completely subject to the Privacy Act 1074, Public Law 93-579, December 31, 1974 (5 U.S.C. 522a). The agency information collection is an integral part of conducting an ACSI survey. The contractor will not be authorized to release any agency information upon completion of the survey without first obtaining permission from the Federal Consulting Group and the participating agency. In no case shall any new system of records containing privacy information be developed by the Federal Consulting Group, participating agencies, or the contractor collecting the data. In addition, participating Federal agencies may only provide information used to randomly select respondents from among established systems of records provided for such routine uses.

There is no other agency or organization which is able to provide the information that is accessible through the surveying approach used in this information collection. Further, the information will enable Federal agencies to determine customer satisfaction metrics with discrimination capability across variables. Thus, this information collection will assist Federal agencies in improving their customer service in a targeted manner which will make best use of resources to improve service to the public.

This survey asks no questions of a sensitive nature, such as sexual behavior and attitudes, religious beliefs, and other matters that are commonly considered private.

Frequency of Collection: Once per survey.

Description of Respondents: Individuals who have utilized Government services.

Total Annual Burden Hours: 7,500.

Current Expiration Date: August 31, 2009.

Type of Review: Renewal.

Affected Public: Individuals and Households. Businesses and Organizations. State, Local or Tribal Government.

Estimated Number of Respondents: Participation by Federal agencies in the ACSI is expected to vary as new customer segment measures are added or deleted. However, based on historical records, projected average estimates for the next three years are as follows:

Average Expected Annual Number of Customer Satisfaction Surveys: 150.

Respondents: 37,500.

Annual responses: 37,500.

Frequency of Response: Once per survey.

Average minutes per response: 12.0.

Burden hours: 7,500 hours.

Note: It is expected that the first year there will be approximately 100 surveys initiated, the second year 150 surveys initiated, and the third year 200 surveys initiated due to expected growth in the program. The figures above represent an expected average per year over the three-year period.

As required under 5 CFR 1320.8(d), a Federal Register notice soliciting comments on the collection of information was published on May 15, 2009 (74 FR 22954). No comments were received. This notice provides the public with an additional 30 days in which to comment on the proposed information collection activity.

Request for Comments: Comments submitted in response to this notice will be summarized and/or included in the request for OMB approval. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

All written comments will be available for public inspection by appointment with the Federal Consulting Group at the contact information given in the “FOR FURTHER INFORMATION CONTACT” section. The comments, with names and addresses, will be available for public view during regular business hours. If you wish us to withhold your personal information, you must prominently state at the beginning of your comment what personal information you want us to withhold. We will honor your request to extent allowable by law.

An agency may not conduct or sponsor, and a person is not required to respond to, a collection of information unless it displays a currently valid Office of Management and Budget control number.

Dated: August 12, 2009.
Ron Oberbillig,
Chief Operating Officer, Federal Consulting Group.

[FR Doc. E9-19635 Filed 8-17-09; 8:45 am]

BILLING CODE 4310-RK-P